DEPARTMENT OF AGRICULTURE

Grain Inspection, Packers and Stockyards Administration

[03-a-a]

Cancellation of Mississippi's Designation, and the Opportunity for Designation in the Mississippi Area

AGENCY: Grain Inspection, Packers and Stockyards Administration, USDA.

ACTION: Notice.

SUMMARY: The United States Grain Standards Act, as amended (Act), provides that official agency designations will end not later than triennially and may be renewed. The Mississippi Department of Agriculture and Commerce (Mississippi) is designated to provide official inspection services until September 30, 2003, according to the Act. Mississippi advised Grain Inspection, Packers and Stockyards Administration (GIPSA) that they will cease providing official inspection effective June 30, 2003. Accordingly, GIPSA is announcing that Mississippi's designation will be canceled effective June 30, 2003. GIPSA is asking for applicants for service in the Mississippi area.

DATES: Applications and comments must be postmarked or electronically dated on or before February 28, 2003.

ADDRESSES: Submit applications to USDA, GIPSA, Janet M. Hart, Chief, Review Branch, Compliance Division, STOP 3604, room 1647-S, 1400 Independence Ave. SW., Washington, DC 20250-3604; Fax (202) 690-2755; e-mail Janet.M.Hart@usda.gov.

FOR FURTHER INFORMATION CONTACT: Janet M. Hart at (202) 720-8525, e-mail Janet.M.Hart@usda.gov.

SUPPLEMENTARY INFORMATION: This action has been reviewed and determined not to be a rule or regulation as defined in Executive Order 12866 and Departmental Regulation 1512-1; therefore, the Executive Order and Departmental Regulation do not apply to this action.

Section 7(f)(1) of the Act authorizes GIPSA's Administrator to designate a qualified applicant to provide official services in a specified area after determining that the applicant is better able than any other applicant to provide such official services. GIPSA designated Mississippi, main office in Jackson, Mississippi, to provide official inspection services under the Act on October 1, 2000.

Section 7(g)(1) of the Act provides that designations of official agencies will end not later than triennially and may be renewed according to the criteria and procedures prescribed in section 7(f) of the Act. The designation of Mississippi ends on September 30, 2003, according to the Act. However, Mississippi asked GIPSA for a voluntary cancellation of their designation coinciding with end of their fiscal year, June 30, 2003. Accordingly, Mississippi's designation will cease effective June 30, 2003, and GIPSA is asking for applicants to provide official service.

Pursuant to section 7(f)(2) of the Act, the following geographic area, the entire State of Mississippi, except those export port locations within the State, is assigned to this official agency. Interested persons are hereby given the opportunity to apply for designation to provide official services in the geographic areas specified above under provisions of section 7(f) of the Act and section 800.196(d) of the regulations issued thereunder. Persons wishing to apply for designation should contact the Compliance Division at the address listed above for forms and information, or obtain applications at the GIPSA Web site, http://www.usda.gov/gipsa/oversight/parovreg.htm.

Authority: Pub. L. 94-582, 90 Stat. 2867, as amended (7 U.S.C. 71 et seq.).

Dated: January 22, 2003.
Donna Reifschneider,
Administrator, Grain Inspection, Packers and Stockyards Administration.

[FR Doc. 03-1862 Filed 1-28-03; 8:45 am]

BILLING CODE 3410-EN-P